DEPARTMENT OF HEALTH AND HUMAN SERVICES

Announcement of Anticipated Availability of Funds for Family Planning Services Grants

AGENCY: Department of Health and Human Services, Office of the Secretary, Office of Public Health and Science, Office of Population Affairs.

ACTION: Notice; correction.

SUMMARY: The Office of Population Affairs, OPHS, HHS published a notice in the Federal Register of Thursday, June 19, 2003 announcing the anticipated availability of funds for family planning services grants. This notice contains an error. One of the Populations/areas (Washington, Seattle area) listed as available for competition is not available for competition in 2004. This document corrects this error.

FOR FURTHER INFORMATION CONTACT: Susan B. Moskosky, 301-594-4008.

Correction

In the Federal Register of June 19, 2003, FR Doc. 03-15514, on page 36,805, correct Table I to read:

Table I
States/Populations/Areas to be served | Approximate funding available | Application due date | Approx. grant funding date
Region I:
Massachusetts—Central/Southeast | $1,468,500 | 09-01-03 | 01-01-04
Connecticut | 1,793,300 | 09-01-03 | 01-01-04
Vermont | 655,100 | 09-01-03 | 01-01-04
Maine | 1,368,300 | 09-01-03 | 01-01-04
Region II: Virgin Islands | 719,300 | 05-30-04 | 09-30-04
Region III: No competitive grants in 2004
Region IV:
Florida, Miami, Dade County and Florida Keys | 525,300 | 05-30-04 | 09-30-04
Florida, Greater Orlando area (including Orange, Seminole, Osceola and Lake Counties) | 525,300 | 05-30-04 | 09-30-04
Region V:
Illinois | 7,599,000 | 09-01-03 | 01-01-04
Wisconsin | 3,233,900 | 11-01-03 | 03-01-04
Michigan | 6,916,100 | 12-01-03 | 04-01-04
Ohio | 2,056,500 | 12-01-03 | 04-01-04
Illinois—Chicago Area | 200,250 | 05-30-04 | 09-30-04
Region VI: Texas | 11,074,000 | 12-01-03 | 04-01-04
Region VII: No competitive grants in 2004
Region VIII:
Colorado | 2,887,200 | 09-01-03 | 01-01-04
North Dakota | 807,000 | 03-01-04 | 07-01-04
Utah | 1,084,000 | 03-01-04 | 07-01-04
Region IX:
Northern Mariana Islands | 115,400 | 09-01-03 | 01-01-04
Arizona, Navajo Nation | 638,300 | 03-01-04 | 07-01-04
Samoa | 145,600 | 03-01-04 | 07-01-04
Nevada (excluding Washoe and Clark Counties) | 600,350 | 03-01-04 | 07-01-04
Republic of the Marshall Islands | 146,400 | 03-01-04 | 07-01-04
Region X:
Washington | 3,616,000 | 09-01-03 | 01-01-04
Alaska, Municipality of Anchorage, Sitka Borough, Kenai Peninsula | 665,500 | 03-01-04 | 07-01-04

Dated: July 2, 2003.
Alma L. Golden,
Deputy Assistant Secretary for Population Affairs.

[FR Doc. 03-17478 Filed 7-9-03; 8:45 am]

BILLING CODE 4150-34-P